COMMITTEE FOR PURCHASE FROM PEOPLE WHO ARE BLIND OR SEVERELY DISABLED

Procurement List; Proposed additions and deletions

AGENCY: Committee for Purchase From People Who Are Blind or Severely Disabled.

ACTION: Proposed additions to and deletions from Procurement List.

SUMMARY: The Committee is proposing to add to the Procurement List a commodity and services to be furnished by nonprofit agencies employing persons who are blind or have other severe disabilities, and to delete a commodity and a service previously furnished by such agencies.

Comments Must be Received on or Before: December 3, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, the entities of the Federal Government identified in this notice for each commodity or service will be required to procure the commodity and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodity and services to the Government.

2. The action will result in authorizing small entities to furnish the commodity and services to the Government.

3. There are no known regulatory alternatives which would accomplish the objectives of the Javits-Wagner-O'Day Act (41 U.S.C. 46-48c) in connection with the commodity and services proposed for addition to the Procurement List. Comments on this certification are invited. Commenters should identify the statement(s) underlying the certification on which they are providing additional information. The following commodity and services are proposed for addition to Procurement List for production by the nonprofit agencies listed:

Commodity

Stand, Office Machine

7110-00-601-9849

7110-01-136-1563

7110-00-601-9835

NPA: Knox County ARC, Knoxville, Tennessee

Government Agency: GSA/National Furniture Center for Zones 2 and 3

Services

Compact Disc Duplication and Printing, U.S. Department of Agriculture, Beltsville, Maryland

NPA: ServiceSource, Inc., Alexandria, Virginia

Government Agency: U.S. Department of Agriculture

Mailroom Operation, Federal Deposit Insurance Corporation, 1910 Pacific Avenue, Dallas, Texas

NPA: Dallas Lighthouse for the Blind, Inc., Dallas, Texas

Government Agency: Federal Deposit Insurance Corporation

Photocopying, James E. Van Zandt Veterans Affairs Medical Center, Altoona, Pennsylvania

NPA: North Central Sight Services, Inc., Williamsport, Pennsylvania

Government Agency: Department of Veterans Affairs

Deletions

I certify that the following action will not have a significant impact on a substantial number of small entities. The major factors considered for this certification were:

1. The action will not result in any additional reporting, recordkeeping or other compliance requirements for small entities.

2. The action will result in authorizing small entities to furnish the commodity and services to the Government.

3. There are no known regulatory alternatives which would accomplish the objectives of the Javits-Wagner-O'Day Act (41 U.S.C. 46-48c) in connection with the commodity and services proposed for deletion from the Procurement List.

The following commodity and service are proposed for deletion from the Procurement List:

Commodity

Hood, Radioactive Contaminant Protective

8415-00-NSH-0027

Service

Janitorial/Custodial

U.S. Air Force Recruiting Station, Wasilla, Alaska

Sheryl D. Kennerly,
Director, Information Management.

[FR Doc. 01-27570 Filed 11-1-01; 8:45 am]

BILLING CODE 6353-01-P